DEPARTMENT OF HEALTH AND HUMAN SERVICES

Office of the Secretary

[Document Identifier: HHS-OS-0990-0391-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for reinstatement of a previously-approved information collection assigned OMB control number 0990-0391, which expired on March 31, 2015. Comments submitted during the first public review of this ICR will be provided to OMB. OMB will accept further comments from the public on this ICR during the review and approval period.

DATES: Comments on the ICR must be received on or before May 13, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the document identifier HHS-OS-0990-0391-30D for reference.

Information Collection Request Title: The Hospital Preparedness Program

OMB No.: 0990-0391.

Abstract: The Science Healthcare Preparedness Evaluation and Research (SHARPER), part of the Department of Health and Human Services (HHS), Assistant Secretary for Preparedness and Response (ASPR), Office of Emergency Management (OEM), Division of National Healthcare Preparedness Programs (NHPP), in conjunction with the Hospital Preparedness Program (HPP) is seeking a reinstatement with change on a currently approved clearance by the Office of Management of Budget (OMB) for a Generic Data Collection Form to serve as the cornerstone of its effort to assess awardee program under the HPP Cooperative Agreement (CA) Program. Program data are gathered from awardees as part of their Ad-hoc and End-of-Year Progress Reports and other similar information collections (ICs) which have the same general purpose, account for awardee spending and program on all activities conducted in pursuit of achieving the HPP Grant goals.

This data collection effort is crucial to HPP's decision-making process regarding the continued existence, design and funding levels of this program. Results from these data analyses enable HPP to monitor healthcare emergency preparedness and progress towards national preparedness goals. HPP supports priorities outlined by the National Preparedness Goal (the Goal) established by the Department of Homeland Security (DHS) in 2005. The Goal guides entities at all levels of government in the development and maintenance of capabilities to prevent, protect against, respond to and recover from major events. Additionally, the Goal will assist entities at all levels of government in the development and maintenance of the capabilities to identify, prioritize and protect critical infrastructure.

Likely Respondents: Hospital Preparedness Program Awardees.

Total Estimated Annualized Burden—Hours
Data collection activity | Number of respondents | Number of responses | Response time (hours) | Total annual burden hours (for all awardees) | 3-Year total (for all awardees)
Generic and Future Program Data Information Collection(s) | 62 | 1 | 58 | 3,596 |
Total |  |  |  | 3,596 | 10,788

Darius Taylor,
Information Collection Clearance Officer.

[FR Doc. 2015-08298 Filed 4-10-15; 8:45 am]

BILLING CODE 4150-37-P